DEPARTMENT OF HEALTH AND HUMAN SERVICES

Centers for Disease Control and Prevention

[60Day-06-06BR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Brownfield/Land Re-use Public Health Involvement Triage Tool—New—Agency for Toxic Substances and Disease Registry (ATSDR), Centers for Disease Control and Prevention (CDC).

Background and Brief Description

ATSDR has developed a Triage Tool that rapidly screens sites to assess the need for public health agency involvement. Users of this tool are likely to include: Health departments, redevelopers, financial institutions, licensed environmental professionals, environmental regulatory agencies, and economic development agencies. Any Brownfield or land re-use site that is being considered for redevelopment is a candidate for processing through this rapid assessment tool.

Brownfield sites and land re-use sites may contain conditions that represent potential health hazards. Some brownfield sites contain significant physical or chemical health hazards. For example, some physical hazards include open holes, unstable structures, and sharp objects. Past industrial activities often leave behind chemical contamination or drums of chemical wastes. These types of sites usually do not have adequate security to prevent people from being exposed to site hazards. Abandoned sites generally lack any restriction to site access. When people enter these properties there is a chance that they may be injured or exposed to toxic chemicals. While most adults may show little interest in entering these properties, children and adolescents often view brownfields as playgrounds and places to explore, thereby increasing their risk of exposure.

Public health agencies are an important resource to communities who are either concerned about the health impacts of current conditions at these types of sites or are considering redevelopment of these properties for expanded re-use. Public health agencies can assist the community in assessing potential health impacts, addressing health concerns of conditions at brownfield sites, communicating risks, and supporting appropriate actions to protect the health of the community.

The Triage Tool consists of an interactive checklist that is used to collect information related to the site, including the suspected contamination, site access, type of site, proposed re-use, community concerns, and site surroundings. After the checklist is completed, the responses are analyzed by the internal logic of the Tool. The Triage Tool uses a hierarchical decision matrix, which assesses site characteristics, community concerns, and the need for public health involvement. A separate system within the Tool allows users to view subject-specific information (contaminants, community concerns, etc.) via an interactive web tool. A Tour Guide has been developed to provide a visual walk-through of the Tool and all of its components.

While ATSDR can only estimate the annual number of users of the Triage Tool, we hope that the tool will be widely available as a resource for site assessment. To protect user privacy, ATSDR does not intend to maintain information entered by users into the Triage Tool checklist function. ATSDR also provides disclaimers in the Triage Tool for purposes of Agency liability. Users are advised within the Tool to avoid entering personal information (e.g., social security numbers, medical information). Any identifying information, such as the site contact, entered into the Triage Tool is provided for the use by the Tool user and will not be maintained by ATSDR. ATSDR does plan to invite feedback regarding the Triage Tool from users through a voluntary process. Users may send a separate e-mail or access a Web site maintained by ATSDR. This separate e-mail or Web site will also exist to enable users to contact ATSDR should they require more assistance or other information regarding brownfields/land re-use sites.

Each respondent may use the Triage Tool more than one time. A high-end, conservative estimate of five uses per year is provided here (i.e., assessment of five sites), with each use requiring about 30 minutes of time. There are no costs to respondents except their time to participate in the survey.

Estimated Annualized Burden Hours
Respondents | Number of respondents | Number of responses per respondent (average) | Average burden per response (in hours) | Total burden (hours)
Local Health Agency Workers | 1,000 | 5 | 30/60 | 2,500
State Employees (e.g., EPA, DNR, DEM) | 1,000 | 5 | 30/60 | 2,500
Developers | 500 | 5 | 30/60 | 1,250
Financial institution personnel | 500 | 5 | 30/60 | 1,250
Environmental or economic professionals | 500 | 5 | 30/60 | 1,250
Total |  |  |  | 8,750

Dated: September 11, 2006.
Joan F. Karr,
Acting Reports Clearance Officer, Centers for Disease Control and Prevention.

[FR Doc. E6-15451 Filed 9-15-06; 8:45 am]

BILLING CODE 4163-18-P